DEPARTMENT OF ENERGY

Federal Energy Regulatory Commission

[Project No. 2726-012—Idaho]

Idaho Power Company; Notice of Availability of Final Environmental Assessment

September 23, 2004.

In accordance with the National Environmental Policy Act of 1969 and Federal Energy Regulatory Commission's (Commission or FERC's) regulations, 18 CFR part 380 (Order No. 486, 52 FR 47897), the Office of Energy Projects' staff has reviewed the application for a subsequent license for the Malad Hydroelectric Project located on the Malad River, Gooding County, Idaho, near the town of Hagerman, and has prepared a final environmental assessment (EA) for the project. The project does not occupy any federal or tribal lands. In the final EA, the Commission staff has analyzed the potential environmental effects of the existing project and has concluded that relicensing the project, with appropriate environmental protection measures, would not constitute a major federal action significantly affecting the quality of the human environment.

Copies of the final EA are available for review in Public Reference Room 2-A of the Commission's offices at 888 First Street, NE., Washington, DC. The final EA also may be viewed on the Commission's Internet Web site (http://www.ferc.gov) using the eLibrary (formerly FERRIS) link. You may register online at http://www.ferc.gov/docs-filing/esubscription.asp to be notified via e-mail of new filings and issuances related to this or other pending projects. For assistance, contact FERC Online Support at FERCOnlineSupport@ferc.gov or toll-free at 1-866-208-3676, or for TTY, 202-502-8659.

For further information, contact John Blair at 202-502-6092.

Magalie R. Salas,
Secretary.

[FR Doc. E4-2430 Filed 9-29-04; 8:45 am]

BILLING CODE 6717-01-P